DEPARTMENT OF STATE

[Public Notice 5274]

60-Day Notice of Proposed Information Collection: DS-3077, Request for Entry Into Children's Passport Issuance Alert Program, OMB 1405-XXXX

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Request for Entry into Children's Passport Issuance Alert Program.

• OMB Control Number: None.

• Type of Request: New collection.

• Originating Office: CA/OCS/CI.

• Form Number: DS-3077.

• Respondents: Concerned parents or their agents, institutions, or courts.

• Estimated Number of Respondents: 2400/year.

• Estimated Number of Responses: 2400/year.

• Average Hours Per Response: 50 minutes.

• Total Estimated Burden: 1992 hours/year.

• Frequency: On occasion.

• Obligation to Respond: Voluntary.

DATES: The Department will accept comments from the public up to 60 days from March 20, 2006.

ADDRESSES: You may submit comments by any of the following methods:

• E-mail: ferbercm@state.gov.

• Mail (paper, disk, or CD-ROM submissions): Corrin Ferber, Attorney Adviser, CA/OCS/PRI, U.S. Department of State, Washington, DC 20520-4818.

• Fax: 202-736-9111.

You must include the DS form number (if applicable), information collection title, and OMB control number in any correspondence.

FOR FURTHER INFORMATION CONTACT: Requests for additional information regarding the collection listed in this notice, including requests for copies of the proposed information collection should be made to Corrin Ferber, Attorney Adviser, CA/OCS/PRI, U.S. Department of State, Washington, DC 20520-4818, who may be reached on 202-736-9172 or ferbercm@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including through the use of automated collection techniques or other forms of technology.

Abstract of proposed collection:

The information requested will be used to support entry of a minor's (an unmarried person under 18) name into the Children's Passport Issuance Alert Program (CPIAP). CPIAP provides a mechanism for parents or other persons with legal custody of a minor to obtain information regarding whether the Department has received a passport application for the minor. This program was developed as a means to prevent international abduction of a minor or to help prevent other travel of a minor without the consent of a parent or legal guardian. If a minor's name and other identifying information has been entered into the CPIAP, when the Department receives an application for a new, replacement, or renewed passport for the minor, the application will be placed on hold for up to 60 days and the Office of Children's Issues will attempt to notify the requestor of receipt of the application. Form DS-3077 will be primarily submitted by a parents or legal guardians of a minor.

Methodology:

The completed form DS-3077 may be submitted to the Office of Children's Issues by mail, by fax, or electronically through http://www.travel.state.gov.

Dated: December 5, 2005.
Catherine Barry,
Deputy Assistant Secretary Consular Affairs, Overseas Citizens Services, Department of State.

[FR Doc. E6-459 Filed 1-17-06; 8:45 am]

BILLING CODE 4710-06-P